DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5:00 p.m. in Room 4211, U.S. Department of Commerce, 14th Street and Constitution Avenue, NW, Washington, DC.

Docket Number: 00-012. Applicant: Washington University, Department of Anesthesiology Research Unit, 660 S. Euclid, Campus Box 8054, St. Louis, MO 63110. Instrument: XY Shifting Table, Model 240 with Accessories. Manufacturer: Luigs and Neuman, Germany. Intended Use: The instrument is intended to be used to search neurons and synapses to determine the electrical properties of a synapse in the auditory system in the rat. Application accepted by Commissioner of Customs: April 21, 2000.

Docket Number: 00-014. Applicant: Washington University, Department of Anesthesiology Research Unit, 660 S. Euclid, Campus Box 8054, St. Louis, MO 63110. Instrument: XY Shifting Table, Model 240 with Accessories. Manufacturer: Luigs and Neuman, Germany. Intended Use: The instrument is intended to be used to search neurons and synapses to determine the electrical properties of a synapse in the auditory system in the rat. Application accepted by Commissioner of Customs: May 15, 2000.

Docket Number: 00-015. Applicant: University of California, San Diego, Department of Neurosciences, 9500 Gilman Drive, La Jolla, CA 92093-0608. Instrument: Electron Microscope, Model JEM-3100. Manufacturer: JEOL Ltd., Japan. Intended Use: The instrument is intended to be used for electron microscopic studies of cells and tissues from a variety of biological specimens used in biomedical and basic biology experiments. Specifically, the instrument will be used to determine 3D structure of cells and tissues in relatively thick sections using the technique of energy filtering microscopy and electron tomography. In addition, the instrument will be used for educational purposes in the course “Introduction to Light and Electron Microscopy.” Application accepted by Commissioner of Customs: March 19, 2000.

Frank W. Creel,
Director, Statutory Import Programs Staff.

[FR Doc. 00-14894 Filed 6-12-00; 8:45 am]

BILLING CODE 3510-DS-P